DEPARTMENT OF THE INTERIOR

Fish and Wildlife Service

[FWS-R6-ES-2017-N034; FXES11130600000-178-FF06E00000]

Endangered Species Recovery Permit Applications

AGENCY: Fish and Wildlife Service, Interior.

ACTION: Notice of receipt of permit applications; request for comment.

SUMMARY: We, the U.S. Fish and Wildlife Service, invite the public to comment on the following applications for a permit to conduct activities intended to enhance the survival of endangered species. With some exceptions, the Endangered Species Act of 1973, as amended (Act), prohibits certain activities that may impact endangered species unless a Federal permit allows such activity. The Act also requires that we invite public comment before issuing these permits.

DATES: To ensure consideration, please send your written comments by July 13, 2017.

ADDRESSES: Please specify the permit you are interested in by number (e.g., Permit No. TE-XXXXXX).

• Email: permitsR6ES@fws.gov. Please refer to the respective permit number (e.g., Permit No. TE-XXXXXX) in the subject line of the message.

• U.S. Mail: Ecological Services, U.S. Fish and Wildlife Service, P.O. Box 25486-DFC, Denver, CO 80225.

• In-Person Drop-off, Viewing, or Pickup: Call (719) 628-2670 to make an appointment during regular business hours at 134 Union Blvd., Suite 645, Lakewood, CO 80228.

FOR FURTHER INFORMATION CONTACT: Kathy Konishi, Recovery Permits Coordinator, Ecological Services, (719) 628-2670 (phone); permitsR6ES@fws.gov (email).

SUPPLEMENTARY INFORMATION:

Background

The Act (16 U.S.C. 1531 et seq.) prohibits certain activities with endangered and threatened species unless authorized by a Federal permit. The Act and our implementing regulations in part 17 of title 50 of the Code of Federal Regulations (CFR) provide for the issuance of such permits and require that we invite public comment before issuing permits for activities involving endangered species.

A permit granted by us under section 10(a)(1)(A) of the Act authorizes the permittee to conduct activities with U.S. endangered or threatened species for scientific purposes, enhancement of propagation or survival, or interstate commerce (the latter only in the event that it facilitates scientific purposes or enhancement of propagation or survival). Our regulations implementing section 10(a)(1)(A) for these permits are found at 50 CFR 17.22 for endangered wildlife species, 50 CFR 17.32 for threatened wildlife species, 50 CFR 17.62 for endangered plant species, and 50 CFR 17.72 for threatened plant species.

Applications Available for Review and Comment

Documents and other information submitted with the applications are available for review, subject to the requirements of the Privacy Act and Freedom of Information Act, by any party who submits a written request for copies to the following office within 30 days of the date of publication of this notice.

We invite local, State, Tribal, and Federal agencies and the public to comment on the following applications. Please refer to the permit number for the application when submitting comments. Documents and other information submitted with these applications are available for review, subject to the requirements of the Privacy Act (5 U.S.C. 552a) and Freedom of Information Act (5 U.S.C. 552).

Permit Applications

Proposed activities in the following permit requests are for the recovery and enhancement of survival of the species in the wild.

Application No. | Applicant | Species | Location | Activity | Type of take | Permit action
TE040510-1 | ERO Resources Corporation | Black-footed ferret (Mustela nigripes) | Colorado | Survey and monitoring | Spotlight survey | Amend.
TE051826-1 | Louisville Zoological Gardens | Black-footed ferret (Mustela nigripes) | Kentucky | Captive propagation | Handle, captive propagation, and husbandry | Renew.
TE053925-3 | National Park Service, Niobrara National Scenic River | Interior least tern (Sternula antillarum athalassos) | Nebraska | Survey and monitoring | Capture, band, tag, bio sample, and release | Amend.
TE37351A-1 | Stephen Spomer, University of Nebraska, Lincoln | Salt Creek tiger beetle (Cicindeoa nevadica lincolniana) | Nebraska | Captive propagation | Capture, handle, captive propagation, and release | Renew.
TE131398-1 | Lower Brule Sioux Tribe | Black-footed ferret (Mustela nigripes) | South Dakota | Survey and monitoring | Spotlight survey, trap, vaccinate, mark, tag | Renew.
TE051139-2 | Turner Endangered Species Fund, LLC | Black-footed ferret (Mustela nigripes) | New Mexico | Survey and monitoring | Spotlight survey, trap, vaccinate, mark, tag | Renew.
TE040748-1 | Cheyenne Mountain Zoo | Black-footed ferret (Mustela nigripes), Wyoming toad (Anaxyrus baxteri), Mexican wolf (Canis lupus ssp. Baileyi) | Colorado | Captive propagation, educational display | Capture, handle, captive propagation, and release | Renew.
TE047285-1 | U.S. Geological Survey, Fort Peck | Pallid sturgeon (Scaphirhynchus albus) | Montana, North Dakota | Survey, monitor, tag, transport, and stock | Capture, handle, and release | Renew.
TR052582-1 | TRC Environmental Corporation | Black-footed ferret (Mustela nigripes), Southwestern willow flycatcher (Empidonax traillii extimus) | Arizona, New Mexico, Colorado, South Dakota, Utah, Wyoming | Survey and monitoring | Spotlight surveys, playback calls | Renew.
TE27486B-1 | Wetland Dynamics, LLC | Southwestern willow flycatcher (Empidonax traillii extimus) | Colorado | Survey and monitoring | Playback calls | Amend.
TE37337A-1 | National Mississippi River Museum and Aquarium | Wyoming toad (Anaxyrus baxteri) | Iowa | Captive propagation, educational display | Handle, captive propagation, and husbandry | Renew.
TE064682-1 | Prairie Wildlife Research Corporation | Black-footed ferret (Mustela nigripes) | Arizona, Colorado, Kansas, Montana, New Mexico, South Dakota, Wyoming, Utah | Survey and monitoring | Spotlight survey, trap, vaccinate, mark, tag | Renew.
TE26580C-0 | Milu Velarde | New Mexico meadow jumping mouse (Zapus hudsonius luteus), gray bat (Myotis grisescens), | Colorado, Kansas | Survey and monitoring | Capture, handle, and release | New.
TE26583C-0 | Chicago Botanic Garden | Wright's fishhook cactus (Sclerocactus wrightiae) | Utah | Remove and reduce to possession | Survey, collect spines for genetic analysis | New.
TE09941B-2 | Felsburg Holt and Ullevig | Indiana bat (Myotis sodalist) | Iowa | Survey and monitoring | Mist net, mark and recapture | Amend.
TE121911-1 | Bureau of Land Management, White River Field Office | Black-footed ferret (Mustela nigripes) | Colorado | Survey and monitoring | Spotlight survey, trap, vaccinate, mark, tag | Renew.

Public Availability of Comments

All comments and materials we receive in response to these requests will be available for public inspection, by appointment, during normal business hours at the address listed above in ADDRESSES.

Before including your address, phone number, email address, or other personal identifying information in your comment, you should be aware that your entire comment—including your personal identifying information—may be made publicly available at any time. While you can ask us in your comment to withhold your personal identifying information from public review, we cannot guarantee that we will be able to do so.

Authority

We provide this notice under section 10 of the Act (16 U.S.C. 1531 et seq.).

Dated: March 28, 2017.
Nicole Alt,
Deputy Assistant Regional Director, Mountain-Prairie Region.

[FR Doc. 2017-12178 Filed 6-12-17; 8:45 am]

BILLING CODE 4333-15-P